DEPARTMENT OF THE INTERIOR

National Park Service

[NPS-WASO-NRNHL-23795; PPWOCRADI0, PCU00RP14.R50000]

National Register of Historic Places; Notification of Pending Nominations and Related Actions

AGENCY: National Park Service, Interior.

ACTION: Notice.

SUMMARY: The National Park Service is soliciting comments on the significance of properties nominated before July 15, 2017, for listing or related actions in the National Register of Historic Places.

DATES: Comments should be submitted by August 24, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before July 15, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Boulder County

Downtown Longmont Historic District, Roughly Main, Coffman & Kimbark Sts. between 3rd & 5th Aves., Longmont, SG100001501

MASSACHUSETTS

Essex County

Rocky Neck Historic District, 1-5 Eastern Point Rd., 285 E. Main St., Bickford Way, Clarendon, Fremont, Horton, Rackliffe, Wiley & Wonson Sts., Gloucester, SG100001502

Franklin County

Heath Center Historic District (Boundary Increase), 44 Hosmer Rd. W., 55 & 59 South Rd. & Heath Fairgrounds on Colrain Stage & Hosmer Rd. W., Heath, BC100001503

MONTANA

Lewis and Clark County

Gehring Ranch, 5488 Lincoln Rd. W., Helena vicinity, SG100001504

OHIO

Cuyahoga County

East Boulevard Apartment House, (Apartment Buildings in Ohio Urban Centers, 1870-1970 MPS), 2691 E. 116th St., Cleveland, MP100001506

Hamilton County

Sands, George F., School, 940 Poplar St., Cincinnati, SG100001507

Stark County

Lehman, John H., High School, 1120 15th St. NW., Canton, SG100001508

VIRGINIA

Halifax County

Bloomsburg (Watkins House), 9000 Philpott Rd., South Boston vicinity, SG100001509

Brandon-on-the-Dan, 1072 Calvary Rd., Alton vicinity, SG100001510

Cedar Grove, 1083 Blanes Mill Rd., Alton vicinity, SG100001511

Glenwood, 7040 Philpott Rd., South Boston vicinity, SG100001512

Lynchburg Independent city, Hopwood Hall, 1501 Lakeside Dr., Lynchburg (Independent City), SG100001513

Montgomery County

Slusser—Ryan Farm, 2028 Mt. Tabor Rd., Blacksburg vicinity, SG100001514

Pittsylvania County

Oak Ridge, 2345 Berry Hill Rd., Danville vicinity, SG100001515

Rockbridge County

Scott—Hutton Farm, 1892 Turnpike Rd., Lexington vicinity, SG100001516

WASHINGTON

King County

Woodinville School, 13203 NE. 175th St., Woodinville, SG100001517

Pierce County

Point Defiance Lodge, 5715 Roberts Garden Rd., Tacoma, SG100001518

WISCONSIN

Brown County

Whitney School, 215 N. Webster Ave., Green Bay, SG100001519

Milwaukee County

Century Building, 808 N. Old World Third St., 230 W. Wells St., Milwaukee, SG100001520

Nominations submitted by Federal Preservation Officers:

The State Historic Preservation Officer reviewed the following nomination and responded to the Federal Preservation Officer within 45 days of receipt of the nomination and supports listing the property in the National Register of Historic Places.

NEW MEXICO

Catron County

Bat Cave (Boundary Increase), Address Restricted, Horse Springs vicinity, BC100001505

Authority: 60.13 of 36 CFR part 60.

Dated: July 18, 2017.
J. Paul Loether,
Chief, National Register of Historic Places/National Historic Landmarks Program. Keeper, National Register of Historic Places.

[FR Doc. 2017-16716 Filed 8-8-17; 8:45 am]

BILLING CODE 4312-52-P